DEPARTMENT OF ENERGY

DEPARTMENT OF THE INTERIOR

Notice To Extend Public Scoping Comment Period for Programmatic Environmental Impact Statement To Evaluate Solar Energy Development and Announcement of Additional Public Scoping Meetings

AGENCIES: Department of Energy (DOE) and Bureau of Land Management (BLM), Department of the Interior (DOI).

ACTION: Notice to Extend Public Scoping Comment Period and Announcement of Additional Public Scoping Meetings.

SUMMARY: DOE and BLM (the Agencies) are extending the comment period for public scoping for the Programmatic Environmental Impact Statement to Evaluate Solar Energy Development and have added three meetings to the previously announced public scoping meeting schedule.

DATES: The public scoping comment period is extended to July 15, 2008. Written and oral comments will be given equal weight, and the Agencies will consider all comments received or postmarked by July 15, 2008, in defining the scope of this PEIS. Comments received or postmarked after that date will be considered to the extent practicable. Three public scoping meetings have been added in the locations and on the dates specified below:

Tucson, Arizona: Tuesday, July 8, 2008.

San Luis Obispo, California: Wednesday, July 9, 2008.

El Centro, California: Thursday, July 10, 2008.

ADDRESSES: You may submit written comments by the following methods:

• Electronically, using the online comment form available on the project Web site: http://solareis.anl.gov. This is the preferred method of commenting.

• In writing, addressed to: Solar Energy PEIS Scoping, Argonne National Laboratory, 9700 S. Cass Avenue—EVS/900, Argonne, IL 60439.

FOR FURTHER INFORMATION CONTACT: For further information, including information on how to comment, you may contact Lisa Jorgensen, Department of Energy, Golden Field Office, lisa.jorgensen@go.doe.gov, 303-275-4906, or Linda Resseguie, BLM Washington Office, linda_resseguie@blm.gov, 202-452-7774, or visit the Solar Energy Development PEIS Web site at http://solareis.anl.gov.

SUPPLEMENTARY INFORMATION: The Notice of Intent to Prepare a Programmatic Environmental Impact Statement to Evaluate Solar Energy Development was published in the Federal Register on May 29, 2008 (73 FR 30908). Information concerning the extension of the public scoping comment period can be found on the project Web site at http://solareis.anl.gov. An additional public scoping meeting has been scheduled for 6 p.m. in Tucson, Arizona, on Tuesday, July 8, 2008, at Pima Community College. The Agencies will announce the time and location of the San Luis Obispo and El Centro meetings through the local media and the project Web site (http://solareis.anl.gov). The scoping meetings will include an introductory presentation on solar energy technologies and market prospects, and on the public participation process. Oral comments from the public will begin immediately after the presentation.

Issued in Washington, DC.
Alexander A. Karsner,
Assistant Secretary, Energy Efficiency and Renewable Energy, Department of Energy.
Ray Brady,
Manager, Energy Policy Act Team, Bureau of Land Management, Department of the Interior.

[FR Doc. E8-15288 Filed 7-3-08; 8:45 am]

BILLING CODE 6450-01-P